DEPARTMENT OF ENERGY

DOE Response to Recommendation 2002-1 of the Defense Nuclear Facilities Safety Board, Quality Assurance for Safety-Related Software

AGENCY: Department of Energy.

ACTION: Notice.

SUMMARY: The Defense Nuclear Facilities Safety Board Recommendation 2002-1, concerning quality assurance for safety-related software at Department of Energy Defense Nuclear Facilities was published in the Federal Register on October 9, 2002 (67 FR 62960). In accordance with section 315(b) of the Atomic Energy Act of 1954, as amended, 42 U.S.C. 2286d(b), the Secretary transmitted the following response to the Defense Nuclear Facilities Safety Board on November 21, 2002.

DATES: Comments, data, views, or arguments concerning the Secretary's response are due on or before January 6, 2003.

ADDRESSES: Send comments, data, views, or arguments concerning the Secretary's response to: Defense Nuclear Facilities Safety Board, 625 Indiana Avenue NW., Suite 700, Washington, DC 20004.

FOR FURTHER INFORMATION CONTACT: Mr. Raymond J. Hardwick, Jr., Associate Deputy Assistant Secretary for Operations, Office of Corporate Safety Assurance, Department of Energy, 1000 Independence Avenue SW., Washington, DC 20585.

Issued in Washington, DC, on December 6, 2002.
Mark B. Whitaker, Jr.,
Departmental Representative to the Defense Nuclear Facilities Safety Board.

BILLING CODE 6450-01-P

[FR Doc. 02-31431 Filed 12-12-02; 8:45 am]

BILLING CODE 6450-01-C